DEPARTMENT OF COMMERCE

International Trade Administration

[A-570-139]

Mobile Access Equipment and Subassemblies Thereof From the People's Republic of China: Postponement of Preliminary Determination in the Less-Than-Fair-Value Investigation

AGENCY: Enforcement and Compliance, International Trade Administration, Department of Commerce.

DATES: Applicable July 1, 2021.

FOR FURTHER INFORMATION CONTACT: Hermes Pinilla at (202) 482-3477 and Andre Gziryan at (202) 482-2201; AD/CVD Operations, Enforcement and Compliance, International Trade Administration, U.S. Department of Commerce, 1401 Constitution Avenue NW, Washington, DC 20230.

SUPPLEMENTARY INFORMATION:

Background

On March 18, 2021, the Department of Commerce (Commerce) initiated the less-than-fair-value investigation of certain mobile access equipment and subassemblies thereof from the People's Republic of China.¹ Currently, the preliminary determination is due no later than August 5, 2021.

¹ See Certain Mobile Access Equipment and Subassemblies Thereof from the People's Republic of China: Initiation of Less-Than-Fair-Value Investigation, 86 FR 15922 (March 25, 2021).

Postponement of Preliminary Determination

Section 733(b)(1)(A) of the Tariff Act of 1930, as amended (the Act), requires Commerce to issue the preliminary determination in an LTFV investigation within 140 days of the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On June 24, 2021, the Coalition of American Manufacturers of Mobile Access Equipment ² (the petitioners) submitted a timely request that Commerce postpone the preliminary determination in this LTFV investigation.³ The petitioners stated that they request postponement due to concerns that Commerce will need more time to issue supplemental questionnaires to address deficiencies in the respondents' initial questionnaire responses. Under the current timeline, the petitioners believe that Commerce will not have complete responses and sufficient information to prepare and issue the preliminary determination.⁴

² The members of the Coalition of American Manufacturers of Mobile Access Equipment are: JLG Industries, Inc. and Terex Corporation.

³ See Petitioners' Letter, “Certain Mobile Access Equipment and Subassemblies Thereof from the People's Republic of China: Request for Postponement of the Preliminary Determination,” dated June 24, 2021.

⁴ Id.

For the reasons stated above, and because there are no compelling reasons to deny the request, Commerce, in accordance with section 733(c)(1)(A) of the Act and 19 CFR 351.205(e), is postponing the deadline for this preliminary determination by 50 days (i.e., 190 days after the date on which these investigations were initiated). As a result, Commerce will issue its preliminary determination no later than September 24, 2021. In accordance with section 735(a)(1) of the Act and 19 CFR 351.210(b)(1), the deadline for the final determination in this investigation will continue to be 75 days after the date of the preliminary determination, unless postponed at a later date.

Notification to Interested Parties

This notice is issued and published pursuant to section 733(c)(2) of the Act and 19 CFR 351.205(f)(1).

Dated: June 25, 2021.
James Maeder,
Deputy Assistant Secretary for Antidumping and Countervailing Duty Operations.

[FR Doc. 2021-14046 Filed 6-30-21; 8:45 am]

BILLING CODE 3510-DS-P